DEPARTMENT OF ENERGY

Federal Energy Regulatory Commission

Combined Notice of Filings No. 1

September 1, 2009.

Take notice that the Commission has received the following Natural Gas Pipeline Rate and Refund Report filings:

Docket Numbers: RP09-956-000.

Applicants: Dominion Cove Point LNG, LP.

Description: Dominion Cove Point LNG, LP submits Sheet No. 0 to its FERC Gas Tariff, Original Volume No. 1, to be effective 9/27/09.

Filed Date: 08/28/2009.

Accession Number: 20090831-0065.

Comment Date: 5 p.m. Eastern Time on Wednesday, September 9, 2009.

Docket Numbers: RP09-957-000.

Applicants: Dominion Transmission, Inc.

Description: Dominion Transmission, Inc. submits Thirty-Eighth Revised Sheet 31 et al. to FERC Gas Tariff, Third Revised Volume 1, to be effective 10/1/09.

Filed Date: 08/28/2009.

Accession Number: 20090831-0064.

Comment Date: 5 p.m. Eastern Time on Wednesday, September 9, 2009.

Docket Numbers: RP09-959-000.

Applicants: Dominion South Pipeline Company, LP.

Description: Dominion South Pipeline Company, LP submits Fourth Revised Sheet No. 50 et al. to FERC Gas Tariff, Original Volume No. 1, to be effective 10/1/09.

Filed Date: 08/28/2009.

Accession Number: 20090831-0063.

Comment Date: 5 p.m. Eastern Time on Wednesday, September 9, 2009.

Docket Numbers: RP09-960-000.

Applicants: Dominion Cove Point LNG, LP.

Description: Dominion Cove Point LNG, LP submits Tenth Revised Sheet 5 et al. to FERC Gas Tariff, Original Volume 1, to be effective 10/1/09.

Filed Date: 08/28/2009.

Accession Number: 20090831-0062.

Comment Date: 5 p.m. Eastern Time on Wednesday, September 9, 2009.

Docket Numbers: RP09-961-000.

Applicants: Gulf South Pipeline Company, LP.

Description: Gulf South Pipeline Company, LP submits Sixteenth Revised Sheet 20 et al. to its FERC Gas Tariff, Sixth Revised Volume 1 to be effective 10/1/09.

Filed Date: 08/28/2009.

Accession Number: 20090831-0061.

Comment Date: 5 p.m. Eastern Time on Wednesday, September 9, 2009.

Docket Numbers: RP09-962-000.

Applicants: Texas Gas Transmission, LLC.

Description: Texas Gas Transmission, LLC submits Second Revised Sheet 22 et al. to FERC Gas Tariff, Third Revised Volume 1, to be effective 10/1/09.

Filed Date: 08/28/2009.

Accession Number: 20090831-0060.

Comment Date: 5 p.m. Eastern Time on Wednesday, September 9, 2009.

Docket Numbers: RP09-963-000.

Applicants: Northwest Pipeline GP.

Description: Northwest Pipeline GP submits Fifth Revised Sheet No. 14 to FERC Gas Tariff, Fourth Revised Volume No. 1.

Filed Date: 08/28/2009.

Accession Number: 20090831-0024.

Comment Date: 5 p.m. Eastern Time on Wednesday, September 9, 2009.

Docket Numbers: RP09-964-000.

Applicants: Equitrans, L.P.

Description: Equitrans, LP submits base transportation agreement and the no conforming Exhibit AB transaction.

Filed Date: 08/28/2009.

Accession Number: 20090831-0023.

Comment Date: 5 p.m. Eastern Time on Wednesday, September 9, 2009.

Docket Numbers: RP09-966-000.

Applicants: Dominion Transmission, Inc.

Description: Dominion Transmission, Inc. submits First Revised Sheet No. 1301 et al. FERC Gas Tariff, Third Revised Volume No. 1.

Filed Date: 08/28/2009.

Accession Number: 20090831-0022.

Comment Date: 5 p.m. Eastern Time on Wednesday, September 9, 2009.

Docket Numbers: RP09-958-000.

Applicants: Colorado Interstate Gas Company.

Description: Colorado Interstate Gas Company Penalties Assessed Compliance Filing.

Filed Date: 08/31/2009.

Accession Number: 20090831-5015.

Comment Date: 5 p.m. Eastern Time on Monday, September 14, 2009.

Docket Numbers: RP09-965-000.

Applicants: Alliance Pipeline L.P.

Description: Alliance Pipeline LP submits Seventh Revised Sheet No. 10 to FERC Gas Tariff, Original No. 1.

Filed Date: 08/31/2009.

Accession Number: 20090831-0020.

Comment Date: 5 p.m. Eastern Time on Monday, September 14, 2009.

Docket Numbers: RP09-967-000.

Applicants: National Fuel Gas Supply Corporation.

Description: National Fuel Gas Supply Corporation submits Thirty-Fourth Revised Sheet No. 8 et al. to its FERC Gas Tariff, Fourth Revised Volume No. 1.

Filed Date: 08/31/2009.

Accession Number: 20090831-0019.

Comment Date: 5 p.m. Eastern Time on Monday, September 14, 2009.

Docket Numbers: RP09-968-000.

Applicants: Florida Gas Transmission Company, LLC.

Description: Florida Gas Transmission Company, LLC submits Eighteenth Revised Sheet No. 7 et al. to FERC Gas Tariff, Fourth Revised Volume No. 1.

Filed Date: 08/31/2009.

Accession Number: 20090831-0042.

Comment Date: 5 p.m. Eastern Time on Monday, September 14, 2009.

Docket Numbers: RP09-969-000.

Applicants: WTG Hugoton, LP.

Description: WTG Hugoton, LP submits First Revised Sheet No. 4 to its FERC Gas Tariff, Original Volume No. 1, to be effective 10/1/09.

Filed Date: 08/31/2009.

Accession Number: 20090831-0055.

Comment Date: 5 p.m. Eastern Time on Monday, September 14, 2009.

Docket Numbers: RP09-970-000.

Applicants: Transcontinental Gas Pipe Line Company, LLC.

Description: Transcontinental Gas Pipe Line Company, LLC submits Third Revised Sheet No. 22 et al. to its FERC Gas Tariff, Fourth Revised Volume No. 1.

Filed Date: 08/31/2009.

Accession Number: 20090831-0056.

Comment Date: 5 p.m. Eastern Time on Monday, September 14, 2009.

Docket Numbers: RP09-971-000.

Applicants: Transcontinental Gas Pipe Line Company, LLC.

Description: Transcontinental Gas Pipe Line Company, LLC submits Fourth Revised Sheet No. 21 et al. to its FERC Gas Tariff, Fourth Revised Volume No. 1.

Filed Date: 08/31/2009.

Accession Number: 20090831-0054.

Comment Date: 5 p.m. Eastern Time on Monday, September 14, 2009.

Docket Numbers: RP09-972-000.

Applicants: Sea Robin Pipeline Company, LLC.

Description: Sea Robin Pipeline Company, LLC submits Seventh Revised Sheet No. 5 et al. to its FERC Gas Tariff, Second Revised Volume No. 1.

Filed Date: 08/31/2009.

Accession Number: 20090831-0053.

Comment Date: 5 p.m. Eastern Time on Monday, September 14, 2009.

Docket Numbers: RP09-973-000.

Applicants: Trunkline LNG Company, LLC.

Description: Trunkline LNG Company, LLC submits Eighteenth Revised Sheet No 5 to its FERC Gas Tariff, Second Revised Volume No 1-A.

Filed Date: 08/31/2009.

Accession Number: 20090831-0052.

Comment Date: 5 p.m. Eastern Time on Monday, September 14, 2009.

Docket Numbers: RP09-974-000.

Applicants: Southwest Gas Storage Company.

Description: Southwest Gas Storage Company submits Twenty-Seventh Revised Sheet No 5 to its FERC Gas Tariff, First Revised Volume No 1.

Filed Date: 08/31/2009.

Accession Number: 20090831-0051.

Comment Date: 5 p.m. Eastern Time on Monday, September 14, 2009.

Docket Numbers: RP09-975-000.

Applicants: Dauphin Island Gathering Partners.

Description: Dauphin Island Gathering Partners submits Eighth Revised Sheet No 7 to its FERC Gas Tariff, First Revised Volume No 1.

Filed Date: 08/31/2009.

Accession Number: 20090831-0050.

Comment Date: 5 p.m. Eastern Time on Monday, September 14, 2009.

Docket Numbers: RP09-976-000.

Applicants: Great Lakes Gas Transmission Limited Par.

Description: Great Lakes Gas Transmission Limited Partnership submits a Notice of Proposed Changes to FERC Gas Tariff Annual Charges Adjustment.

Filed Date: 08/31/2009.

Accession Number: 20090831-0043.

Comment Date: 5 p.m. Eastern Time on Monday, September 14, 2009.

Docket Numbers: RP09-977-000.

Applicants: West Texas Gas, Inc.

Description: West Texas Gas, Inc submits Twenty-Seventh Revised Sheet No 4 to FERC Gas Tariff, First Revised Volume No 1, to be effective 10/1/09.

Filed Date: 08/31/2009.

Accession Number: 20090831-0044.

Comment Date: 5 p.m. Eastern Time on Monday, September 14, 2009.

Docket Numbers: RP09-978-000.

Applicants: Florida Gas Transmission Company, LLC.

Description: Florida Gas Transmission Company, LLC submits Seventeenth Revised Sheet No. 7 et al. to FERC Gas Tariff, Fourth Revised Volume No. 1, to be effective 10/1/09.

Filed Date: 08/31/2009.

Accession Number: 20090831-0045.

Comment Date: 5 p.m. Eastern Time on Monday, September 14, 2009.

Docket Numbers: RP09-979-000.

Applicants: Western Gas Interstate Company.

Description: Western Gas Interstate Company submits Fourth Revised Sheet No 10 to its FERC Gas Tariff, Fourth Revised Volume No 1.

Filed Date: 08/31/2009.

Accession Number: 20090831-0046.

Comment Date: 5 p.m. Eastern Time on Monday, September 14, 2009.

Docket Numbers: RP09-980-000.

Applicants: Enbridge Pipelines (Midla) L.L.C.

Description: Enbridge Pipelines (Midla) L.L.C. submits Third Revised Sheet 0 et al. to FERC Gas Tariff, Fifth Revised Volume 1 to be effective 10/1/09.

Filed Date: 08/31/2009.

Accession Number: 20090831-0066.

Comment Date: 5 p.m. Eastern Time on Monday, September 14, 2009.

Docket Numbers: RP09-981-000.

Applicants: Mississippi Canyon Gas Pipeline, LLC.

Description: Mississippi Canyon Gas Pipeline, LLC submits Ninth Revised Sheet No 5 to FERC Gas Tariff, First Revised Volume No 1, to be effective 10/1/09.

Filed Date: 08/31/2009.

Accession Number: 20090831-0082.

Comment Date: 5 p.m. Eastern Time on Monday, September 14, 2009.

Docket Numbers: RP09-982-000.

Applicants: Nautilus Pipeline Company, L.L.C.

Description: Nautilus Pipeline Company, LLC submits Eleventh Revised Sheet No 9 to FERC Gas Tariff, Original Volume No 1, to be effective 10/1/09.

Filed Date: 08/31/2009.

Accession Number: 20090831-0081.

Comment Date: 5 p.m. Eastern Time on Monday, September 14, 2009.

Docket Numbers: RP09-983-000.

Applicants: Enbridge Pipelines (AlaTenn) L.L.C.

Description: Enbridge Pipelines (AlaTenn) LLC submits Sixth Revised Sheet No 4 to FERC Gas Tariff, Fourth Revised Volume No 1, to be effective 10/1/09.

Filed Date: 08/31/2009.

Accession Number: 20090831-0080.

Comment Date: 5 p.m. Eastern Time on Monday, September 14, 2009.

Docket Numbers: RP09-984-000.

Applicants: Garden Banks Gas Pipeline, LLC.

Description: Garden Banks Gas Pipeline, LLC submits Tenth Revised Sheet No 6 to FERC Gas Tariff, Original Volume No 1, to be effective 10/1/09.

Filed Date: 08/31/2009

Accession Number: 20090831-0079.

Comment Date: 5 p.m. Eastern Time on Monday, September 14, 2009.

Docket Numbers: RP09-985-000.

Applicants: Texas Eastern Transmission LP.

Description: Texas Eastern Transmission, LP submits Third Revised Sheet No. 591 to FERC Gas Tariff, Seventh Revised Volume No. 1, to be effective 10/1/09.

Filed Date: 08/31/2009.

Accession Number: 20090831-0078.

Comment Date: 5 p.m. Eastern Time on Monday, September 14, 2009.

Docket Numbers: RP09-986-000.

Applicants: Saltville Gas Storage Company L.L.C.

Description: Saltville Gas Storage Company, LLC submits Fourth Revised Sheet No 154 to FERC Gas Tariff, Original Volume No 1, to be effective 10/1/09.

Filed Date: 08/31/2009.

Accession Number: 20090831-0077.

Comment Date: 5 p.m. Eastern Time on Monday, September 14, 2009.

Docket Numbers: RP09-987-000.

Applicants: Sabine Pipe Line LLC.

Description: Sabine Pipe Line LLC submits Thirteenth Revised Sheet No. 20 to its FERC Gas Tariff, Original Volume No 1.

Filed Date: 08/31/2009.

Accession Number: 20090831-0070.

Comment Date: 5 p.m. Eastern Time on Monday, September 14, 2009.

Docket Numbers: RP09-988-000.

Applicants: Paiute Pipeline Company.

Description: Paiute Pipeline Company submit Twentieth Revised Sheet No 10 to its FERC Gas Tariff, Second Revised Volume No 1-A.

Filed Date: 08/31/2009.

Accession Number: 20090831-0071.

Comment Date: 5 p.m. Eastern Time on Monday, September 14, 2009.

Docket Numbers: RP09-989-000.

Applicants: Williston Basin Interstate Pipeline Co.

Description: Williston Basin Interstate Pipeline Company submits Seventy-Second Revised Sheet No. 15 et al. to FERC Gas Tariff, Second Revised Volume No 1, to be effective 10/1/09.

Filed Date: 08/31/2009.

Accession Number: 20090831-0072.

Comment Date: 5 p.m. Eastern Time on Monday, September 14, 2009.

Docket Numbers: RP09-990-000.

Applicants: Panhandle Eastern Pipe Line Company, LP.

Description: Panhandle Eastern Pipe Line Company, LP submits Twenty-Fourth Revised Sheet No. 4 et al. to FERC Gas Tariff, Third Revised Volume No. 1, to be effective 10/1/09.

Filed Date: 08/31/2009.

Accession Number: 20090831-0073.

Comment Date: 5 p.m. Eastern Time on Monday, September 14, 2009.

Docket Numbers: RP09-991-000.

Applicants: Chandeleur Pipe Line Company.

Description: Chandeleur Pipe Line Company submits Twenty-Sixth Revised Sheet No. 5 to its FERC Gas Tariff, Second Revised Volume No. 1.

Filed Date: 08/31/2009.

Accession Number: 20090831-0074.

Comment Date: 5 p.m. Eastern Time on Monday, September 14, 2009.

Docket Numbers: RP09-992-000.

Applicants: Trunkline Gas Company, LLC.

Description: Trunkline Gas Company, LLC submits Twenty-First Revised Sheet No. 10 et al. to FERC Gas Tariff, Third Revised Volume No. 1, to be effective 10/1/09.

Filed Date: 08/31/2009.

Accession Number: 20090831-0075.

Comment Date: 5 p.m. Eastern Time on Monday, September 14, 2009.

Docket Numbers: RP09-993-000.

Applicants: OkTex Pipeline Company.

Description: OkTex Pipeline Company submits Seventh Revised Sheet No. 17 et al. to FERC Gas Tariff, Original Volume No. 1, to be effective 10/1/09.

Filed Date: 08/31/2009.

Accession Number: 20090831-0076.

Comment Date: 5 p.m. Eastern Time on Monday, September 14, 2009.

Docket Numbers: RP09-994-000.

Applicants: Williston Basin Interstate Pipeline Co.

Description: Williston Basin Interstate Pipeline Co submits Seventy-Third Revised Sheet No. 15 et al. to FERC Gas Tariff, Second Revised Volume No. 1.

Filed Date: 08/31/2009

Accession Number: 20090831-0090.

Comment Date: 5 p.m. Eastern Time on Monday, September 14, 2009.

Docket Numbers: RP09-995-000.

Applicants: Sea Robin Pipeline Company, LLC.

Description: Sea Robin Pipeline Co., LLC submits Second Revised Sheet No. 2 et al. to FERC Gas Tariff, Second Revised Volume No. 1.

Filed Date: 08/31/2009.

Accession Number: 20090831-0093.

Comment Date: 5 p.m. Eastern Time on Monday, September 14, 2009.

Docket Numbers: RP09-996-000.

Applicants: Puget Sound Energy, Inc.

Description: Puget Sound Energy, Inc. submits Ninth Revised Sheet No. 1 et al. to FERC Gas Tariff, Original Volume No. 1 re Jackson Prairie Storage Project.

Filed Date: 08/31/2009.

Accession Number: 20090831-0092.

Comment Date: 5 p.m. Eastern Time on Monday, September 14, 2009.

Docket Numbers: RP09-997-000.

Applicants: Gulf South Pipeline Company, LP.

Description: Gulf South Pipeline Co., LP submits its annual cash-in/cash-out report.

Filed Date: 08/31/2009.

Accession Number: 20090831-0091.

Comment Date: 5 p.m. Eastern Time on Monday, September 14, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Kimberly D. Bose,
Secretary.

[FR Doc. E9-21862 Filed 9-10-09; 8:45 am]

BILLING CODE 6717-01-P